DEPARTMENT OF THE TREASURY

Internal Revenue Service

Open Meeting of the Taxpayer Advocacy Panel Joint Committee: Change

AGENCY: Internal Revenue Service (IRS) Treasury.

ACTION: Notice of meeting: Change.

SUMMARY: In the Federal Register notice that was originally published on June 5, 2023, the day for this meeting changed from Monday, June 26, 2023, to Monday, July 17, 2023 at 3:00 p.m. Eastern Time. All other meeting details remain unchanged. This meeting will be held via teleconference.

DATES: The meeting will be held Monday, July 17, 2023.

FOR FURTHER INFORMATION CONTACT: Rosalind Matherne at 1-888-912-1227 or 202-317-4115.

SUPPLEMENTARY INFORMATION: Notice is hereby given pursuant to Section 10(a)(2) of the Federal Advisory Committee Act, 5 U.S.C. App. (1988) that an open meeting of the Taxpayer Advocacy Panel Joint Committee will be held Monday, July 17, 2023, at 3:00 p.m. Eastern Time via teleconference. This meeting was previously announced in the Federal Register June 5, 2023 at 88 FR 37141. The public is invited to make oral comments or submit written statements for consideration. For more information, please contact Rosalind Matherne at 1-888-912-1227 or 202-317-4115, or write TAP Office, 1111 Constitution Ave. NW, Room 1503, Washington, DC 20224 or contact us at the website: http://www.improveirs.org.

The agenda will include Tax Forms and Publications committee referral #52664 to be discussed. Public input is welcomed.

Dated: June 23, 2023.
Kevin Brown,
Acting Director, Taxpayer Advocacy Panel.

[FR Doc. 2023-13800 Filed 6-28-23; 8:45 am]

BILLING CODE 4830-01-P